DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on June 27-28, 2011. On June 27, the meeting will be held in room 230 at the Department of Veterans Affairs, 810 Vermont Avenue, NW., Washington, DC. On June 28, the meeting will be held in room 1143 at the Lafayette Building, 811 Vermont Avenue, NW., Washington, DC. The sessions will begin at 8 a.m. each day and adjourn at 5 p.m. on June 27 and at 12:30 p.m. on June 28. The meeting is open to the public.

The purpose of the Committee is to provide advice and make recommendations to the Secretary of Veterans Affairs on proposed research studies, research plans and research strategies relating to the health consequences of military service in the Southwest Asia theater of operations during the Gulf War.

The Committee will review VA program activities related to Gulf War Veterans' illnesses and updates on relevant scientific research published since the last Committee meeting. The session on June 27 will be devoted to presentations and discussion of background information on the Gulf War and Gulf War Veterans' illnesses, immune function and system activation in Gulf War illness, genomics modeling and etiologic factors of Gulf War illness, and possible therapies and treatments for ill Veterans. The session on June 28 will include discussion of Committee business and activities. On both days of the meeting, presentations will be made related to ongoing VA and National Institute for Health research programs.

The meeting will include time reserved for public comments at the end of each day. A sign-up sheet for five-minute comments will be available at the meeting. Individuals who speak are invited to submit a 1-2 page summary of their comments at the time of the meeting for inclusion in the official meeting record. Members of the public may also submit written statements for the Committee's review to Dr. Roberta White, Scientific Director, at rwhite@bu.edu. Any member of the public seeking additional information should contact Dr. White at (617) 278-4517 or Dr. William Goldberg, Designated Federal Officer, at (202) 443-5698.

Dated: May 23, 2011.
By Direction of the Secretary.
Vivian Drake,
Acting Committee Management Officer.

[FR Doc. 2011-13128 Filed 5-26-11; 8:45 am]

BILLING CODE P